DEPARTMENT OF THE INTERIOR

Bureau of Land Management

[LLAKF02000.16100000.DP0000.LXSS094L0000]

Notice of Availability of a Supplement to the Eastern Interior Draft Resource Management Plan/Environmental Impact Statement for Leasing of Hardrock Minerals in the White Mountains National Recreation Area, AK

AGENCY: Bureau of Land Management, Interior.

ACTION: Notice of availability.

SUMMARY: In accordance with the National Environmental Policy Act of 1969, as amended, and the Federal Land Policy and Management Act of 1976, as amended, the Bureau of Land Management (BLM) is announcing the availability of a Supplement to the Draft Resource Management Plan (RMP) and Environmental Impact Statement (EIS) for the Eastern Interior Planning Area (Alaska) and the extension of the comment period for the Draft RMP/EIS. The purpose of the Supplement is to analyze and obtain public comment on opening part of the White Mountains National Recreation Area to hardrock mineral leasing.

DATES: To ensure that comments will be considered, the BLM must receive written comments on the Draft RMP/EIS and Supplement thereto within 90 days after the Environmental Protection Agency (EPA) publishes its notice of availability of the Supplement in the Federal Register. The BLM will announce future meetings or hearings and any other public participation activities at least 15 days in advance through public notices, media releases, and/or mailings.

ADDRESSES: You may submit comments related to the Eastern Interior Draft RMP/EIS and Supplement by any of the following methods:

• Web site: http://www.blm.gov/ak/st/en/prog/planning.html.

• Fax: 907-474-2282.

• Mail: Eastern Interior Field Office, Attention—Eastern Interior Draft RMP/EIS, Bureau of Land Management, 1150 University Avenue, Fairbanks, Alaska 99709.

Copies of the Supplement to the Eastern Interior Draft RMP/EIS are available at the Fairbanks District Office at the above address; at the Alaska State Office, Public Information Center, Bureau of Land Management, 222 West 7th Avenue, Anchorage, Alaska 99513; and on the following Web site: http://www.blm.gov/ak/st/en/prog/planning.html.

FOR FURTHER INFORMATION CONTACT: Jeanie Cole, 907-474-2340 or j05cole@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Supplement to the Eastern Interior Draft RMP/EIS amends Alternative D to address hardrock mineral leasing in the White Mountains National Recreation Area (NRA). Section 1312 of the Alaska National Interest Lands Conservation Act (ANILCA), 16 U.S.C. 460mm-4, withdrew the lands within the White Mountains NRA from location, entry, and patent under the Mining Law of 1872, but allows the Secretary to “permit the removal of the nonleasable minerals” from these lands, provided the Secretary makes a finding that such disposition would not have significant adverse effects on the administration of the NRA. The BLM has interpreted section 1312 as allowing for the disposal of previously locatable minerals within the NRA by lease, as described in its regulations at 43 CFR part 3500 and 3580, subpart 3585.

The White Mountains RMP issued in 1986 recommended opening about 44 percent of the NRA to hardrock mineral leasing. This decision was never implemented.

The BLM published a Notice of Availability for the Eastern Interior Draft RMP/EIS in the Federal Register on February 24, 2012 (77 FR 11154). The Environmental Protection Agency (EPA) published its Notice of Availability of the Draft RMP/EIS in the Federal Register on March 2, 2012 (77 FR 12835), beginning a 150-day public comment period. This notice announces the extension of the comment period for the Draft RMP/EIS for 90 days after EPA publishes its notice of availability of the Supplement in the Federal Register. The Draft RMP/EIS considered hardrock mineral leasing in the White Mountains NRA as an alternative considered but not analyzed in detail.

In the Draft RMP/EIS, the BLM previously described that the provisions under ANILCA for hardrock mineral leasing in the White Mountains NRA (implemented by 43 CFR 3585) applied only to removal of hardrock minerals from unperfected mining claims that existed before November 16, 1978. Since there are no longer any mining claims of record within the NRA, it was thought that no one could meet the requirements to lease hardrock minerals. This understanding was incorrect, as the BLM, through its regulations at 43 CFR part 3500 and subpart 3580, has interpreted Section 1312 of ANILCA as allowing for the disposal of hardrock minerals by lease even in the absence of an underlying unperfected mining claim subject to certain findings by the Secretary.

In order to analyze in detail and obtain public comment on an alternative involving hardrock mineral leasing in the White Mountains NRA, the BLM has issued a Supplement to the Eastern Interior Draft RMP/EIS. The Supplement amends Alternative D to include hardrock mineral leasing. This alternative would recommend making approximately 160,000 acres in the White Mountains NRA available for hardrock mineral leasing. The Supplement describes the additions to Alternative D, assumptions for analysis, and the environmental effects associated with hardrock mineral leasing. A decision on whether or not to recommend opening the NRA to hardrock mineral leasing as a feature of the agency preferred alternative in the Proposed RMP/Final EIS will be made after reviewing and considering public comments on the Draft RMP/EIS and the Supplement.

Pursuant to section 810 of ANILCA, the BLM evaluated the effects of the alternative presented in the Supplement on subsistence activities and determined that there may be a significant restriction on subsistence uses. The BLM will hold public hearings related to section 810 of ANILCA in conjunction with public meetings on the Supplement, in the affected region. The BLM will announce notice of specific dates and locations for public meetings and ANILCA hearings, through public notices, media releases, and/or mailings.

Public comments and information submitted including names, street addresses, and email addresses of persons who submit comments will be available for public review and disclosure at the above address during regular business hours (8 a.m. to 4 p.m.), Monday through Friday, except federal holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 1506.10, and 43 CFR 1610.2.

Ted A. Murphy,
Acting State Director.

[FR Doc. 2013-00316 Filed 1-10-13; 8:45 am]

BILLING CODE 4310-JA-P